DEPARTMENT OF DEFENSE

National Security Agency/Central Security Service; Office of the Secretary

[Docket ID DOD-2008-OS-0162]

Privacy Act of 1974; System of Records

AGENCY: National Security Agency/Central Security Service, DoD.

ACTION: Notice to Amend System of Records.

SUMMARY: The National Security Agency/Central Security Service is proposing to amend an exempt system of records to its existing inventory of record systems subject to the Privacy Act of 1974, (5 U.S.C. 552a), as amended.

DATES: This proposed action would be effective without further notice on January 29, 2009 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: December 18, 2008.
Morgan E. Frazier,
Alternate OSD Federal Register Liaison Officer, Department of Defense.

GNSA 05

SYSTEM NAME:

NSA/CSS Equal Employment Opportunity Data (February 22, 1993, 58 FR 10531).

CHANGES:

* * * * *

SYSTEM NAME:

Delete entry and replace with “NSA/CSS Equal Employment Opportunity Statistical Data.”

CATEGORY OF RECORDS:

Delete entry and replace with “File contains civilian personnel data and Agency organizational data to title, grade, date of birth, training, date of last promotion, educational attainments, full name, address, Social Security Number (SSN), time of service, personnel codes, and organization assignment.”

AUTHORITY FOR MAINTENANCE OF THE SYSTEM:

Delete entry and replace with “Title VII of the 1964 Civil Rights Act, as amended; Rehabilitation Act of 1973, as amended; Age Discrimination in Employment Act, as amended; 29 CFR Part 1614, Federal Sector Equal Employment Opportunity; E.O. 11478, Equal employment opportunity in the Federal Government, as amended and E.O. 9397 (SSN).”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act, these records or information contained therein may specifically be disclosed outside the DoD as a routine use pursuant to 5 U.S.C. 552a(b)(3) as follows:

To contractor employees to make determinations as noted in the purpose above. Reports, summaries and statistics may be made available to the Office of Equal Employment Opportunity, Congress, Department of Justice and judicial branch elements as required by cited authorities, requested pursuant to those authorities or ordered by specific judicial branch order.

The DoD ‘Blanket Routine Uses’ published at the beginning of the NSA/CSS's compilation of record systems also apply to this record system.”

* * * * *

STORAGE:

Delete entry and replace with “Paper records in file folders and electronic storage media.”

RETRIEVABILITY:

Delete entry and replace with “By name and/or Social Security Number (SSN).”

SAFEGUARDS:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection.”

RETENTION AND DISPOSAL:

Delete entry and replace with “Destroy when 4 years old by pulping, burning, shredding, or erasure or destruction of magnet media.”

SYSTEM MANAGER:

Delete entry and replace with “Director, Equal Employment Opportunity & Diversity, National Security Agency/Central Security Service, Ft. George G. Meade, MD 20755-6000.”

NOTIFICATION PROCEDURE:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

RECORD ACCESS PROCEDURES:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

CONTESTING RECORD PROCEDURES:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 05

SYSTEM NAME:

NSA/CSS Equal Employment Opportunity Data Statistical Data.

SYSTEM LOCATION:

National Security Agency/Central Security Service, Ft. George G. Meade, MD 20755-6000.

CATEGORY OF INDIVIDUALS:

NSA/CSS civilian personnel and personnel under contract.

CATEGORY OF RECORDS:

File contains civilian personnel data and Agency organizational data to title, grade, date of birth, training, date of last promotion, educational attainments, full name, address, Social Security Number (SSN), time of service, personnel codes, and organization assignment.

AUTHORITY FOR MAINTENANCE OF THE SYSTEM:

Title VII of the 1964 Civil Rights Act, as amended; Rehabilitation Act of 1973, as amended; Age Discrimination in Employment Act, as amended; 29 CFR Part 1614, Federal Sector Equal Employment Opportunity; E.O. 11478, Equal employment opportunity in the Federal Government, as amended and E.O. 9397 (SSN).

PURPOSE:

To ensure compliance with cited authorities with respect to equal employment opportunities.

To compile such studies, research, statistics and reports necessary to ensure compliance with cited authorities.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To contractor employees to make determinations as noted in the purpose above. Reports, summaries and statistics may be made available to the Office of Equal Employment Opportunity, Congress, Department of Justice and judicial branch elements as required by cited authorities, requested pursuant to those authorities or ordered by specific judicial branch order.

The DoD ‘Blanket Routine Uses’ published at the beginning of the NSA/CSS's compilation of record systems also apply to this record system.

POLICIES AND PRACTICES FOR STORING, RETRIEVING, ACCESSING, RETAINING, AND DISPOSING OF RECORDS IN THE SYSTEM:

STORAGE:

Paper records in file folders and electronic storage media.

RETRIEVABILITY:

By name and/or Social Security Number (SSN).

SAFEGUARDS:

Buildings are secured by a series of guarded pedestrian gates and checkpoints. Access to facilities is limited to security-cleared personnel and escorted visitors only. Within the facilities themselves, access to paper and computer printouts are controlled by limited-access facilities and lockable containers. Access to electronic means is limited and controlled by computer password protection.

RETENTION AND DISPOSAL:

Destroy when 4 years old by pulping, burning, shredding, or erasure or destruction of magnet media.

System manager(s) and address:

Director, Equal Employment Opportunity & Diversity, National Security Agency/Central Security Service, Ft. George G. Meade, MD 20755-6000.

NOTIFICATION PROCEDURE:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

RECORD ACCESS PROCEDURES:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

CONTESTING RECORD PROCEDURES:

The NSA/CSS rules for contesting contents and appealing initial determinations are published at 32 CFR part 322 or may be obtained by written request addressed to the National Security Agency/Central Security Service, Freedom of Information Act/Privacy Act Office, 9800 Savage Road, Ft. George G. Meade, MD 20755-6000.

RECORD SOURCE CATEGORIES:

Individuals themselves, organizational elements, personnel file, and other sources as appropriate and required.

EXEMPTIONS CLAIMED FOR THE SYSTEM:

Individual records and data elements in this file may be exempt pursuant to 5 U.S.C. 552a(k)(1), (k)(2), and (k)(4).

An exemption rule for this record system has been promulgated according to the requirements of 5 U.S.C. 553(b)(1), (2), and (3), (c) and (e) and published in 32 CFR part 322. For additional information contact the system manager.

[FR Doc. E8-30873 Filed 12-29-08; 8:45 am]

BILLING CODE 5001-06-P